SECURITIES AND EXCHANGE COMMISSION

[Release No. 34-100733; File No. SR-ISE-2024-34]

Self-Regulatory Organizations; Nasdaq ISE, LLC; Notice of Withdrawal of Proposed Rule Change To Amend ISE Options 4, Section 3 To List and Trade Options on Units That Represent Interests in a Trust That Holds Ether

August 15, 2024.

Pursuant to Section 19(b)(1) of the Securities Exchange Act of 1934 (“Act”) ¹ and Rule 19b-4 thereunder,² Nasdaq ISE, LLC (“Exchange”) filed with the Securities and Exchange Commission (“Commission”) a proposed rule change to amend Options 4, Section 3(h) to allow the Exchange to list and trade options on units that represent interests in a trust that holds ether (“Proposal”). The Proposal was published for comment in the Federal Register on August 12, 2024.³ The Commission received no comments addressing the Proposal. On August 13, 2024, the Exchange withdrew the Proposal (SR-ISE-2024-34).

¹ 15 U.S.C. 78s(b)(1).

² 17 CFR 240.19b-4.

³ See Securities Exchange Act Release No. 100663 (Aug. 6, 2024), 89 FR 65685 (Aug. 12, 2024).

For the Commission, by the Division of Trading and Markets, pursuant to delegated authority.⁴

⁴ 17 CFR 200.30-3(a)(12).

Sherry R. Haywood,
Assistant Secretary.

[FR Doc. 2024-18698 Filed 8-20-24; 8:45 am]

BILLING CODE 8011-01-P